DEPARTMENT OF HOMELAND SECURITY

Coast Guard

33 CFR Parts 1 and 175

46 CFR Part 25

[Docket No. USCG-2018-0099]

RIN 1625-AC41

Fire Protection for Recreational Vessels

AGENCY: Coast Guard, Department of Homeland Security.

ACTION: Final rule; correction.

SUMMARY: The Coast Guard is correcting a final rule that appeared in the Federal Register on October 22, 2021. The document issued a final rule that amended fire extinguishing equipment regulations for recreational vessels that are propelled or controlled by propulsion machinery.

DATES: Effective April 20, 2022.

FOR FURTHER INFORMATION CONTACT: For information about this document, call or email Jeffrey Decker, Office of Auxiliary and Boating Safety, Boating Safety Division (CG-BSX-2), Coast Guard; telephone 202-372-1507, email RBSinfo@uscg.mil.

SUPPLEMENTARY INFORMATION: In FR Doc. 2021-22578 apearing on pages 58560-58573 in the Federal Register of Friday, October 22, 2021, the following correction is made:

33 CFR 175.320 [Corrected]

1. On page 58573, in the first column, in table 3 to § 175.320(a)(2), the header for the second column is corrected to read “Conditions that do not in themselves require fire extinguishers”.

Michael Cunningham,
Chief, Office of Regulations and Administrative Law, U.S. Coast Guard.

[FR Doc. 2021-23403 Filed 10-26-21; 8:45 am]

BILLING CODE 9110-04-P